DEPARTMENT OF AGRICULTURE

Agricultural Marketing Service

[TM-02-02]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: May 6, 2002, 8 a.m. to 5 p.m.; May 7, 2002, 8 a.m. to 5 p.m.; and, May 8, 2002, 8 a.m. to 11:30 a.m. Requests from individuals and organizations wishing to make an oral presentation at the meeting are due by the close of business on April 25, 2002.

ADDRESSES: The meeting will take place at the Clarion Inn & Suites Conference Center, The Ballroom (Walnut/Oak Room) 2200 1H-35 South, Austin, Texas. Requests for copies of the NOSB meeting agenda and requests to make an oral presentation at the meeting may be sent to Ms. Katherine Benham at USDA-AMS-TMD-NOP, 1400 Independence Avenue, SW, Room 4008-So., Ag Stop 0268, Washington, DC 20250-0200. Requests to make an oral presentation at the meeting may also be sent electronically to Ms. Katherine Benham at katherine.benham@usda.gov.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production and to advise the Secretary on other aspects of the implementation of OFPA. The NOSB met for the first time in Washington, DC, in March 1992, and currently has five committees working on various aspects of the organic program. The committees are: Accreditation, Crops, Livestock, Materials, and Processing.

In August of 1994, the NOSB provided its initial recommendations for the National Organic Program (NOP) to the Secretary of Agriculture. Since that time, the NOSB has submitted 39 addenda to its recommendations and reviewed more than 210 substances for inclusion on the National List of Allowed and Prohibited Substances. The last meeting of the NOSB was held on October 15-17, 2001, in Washington, D.C.

The Department of Agriculture (USDA) published its final National Organic Program regulation in the Federal Register on December 21, 2000 (65 FR 80548). The rule became effective April 21, 2001.

The principal purposes of the meeting are to provide an opportunity for the NOSB to: receive an update from the USDA/NOP, receive various committee reports, receive reports from the Board Policy Task Force and Composting Task Force, and review materials to determine if they should be included on the National List of Allowed and Prohibited Substances.

The Livestock Committee will present for NOSB consideration its recommendations on “feed ingredients,” “dairy animal replacement,” “access to outdoors for poultry” and “excipients in medications. The Materials Committee will explain the materials review process, report on petitioned materials, and present for NOSB consideration its recommendation on Konjac Flour. The Materials Committee will also present 11 materials for possible inclusion on the National List of Allowed and Prohibited Substances. The Processing Committee will discuss clarification of Section 205.606—Natural Flavors, and review guidelines/comments for determining which processing technologies require review by NOSB. The Processing Committee will also present for NOSB consideration its recommendations on documentation requirements regarding the nonuse of prohibited substances and compliance with National List annotations, and GRAS materials as inerts. The Crops committee will present for NOSB consideration its recommendations on composting, hydroponic production, organic planting stock and transitional products. The Accreditation Committee will lead discussions on grower group certification criteria, accreditation complaint procedures, and certifying agent issues. Finally, the International Committee will discuss a proposed recommendation on US/EU Equivalency.

Materials to be reviewed at the meeting by the NOSB are as follows: for Crop Production: Calcium Oxide, Calcium Hydroxide, Potassium Sorbate, Sodium Proprionate and Sodium Nitrate; for Crops and Livestock Production: Spinosad; and for Processing: Gelatin, Dewaxed Flake Shellak, Calcium Stearate, Diethylaminoethanol, and Glycerol Monoleate.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input on Monday, May 6, 2002, from 8:45 a.m. until 10:45 a.m.; and Wednesday, May 8, 2002, from 10 a.m. until 11 a.m., at the Clarion Inn & Suites Conference Center, The Ballroom (Walnut/Oak Room), 2200 IH-35 South, Austin, Texas. Individuals and organizations wishing to make an oral presentation at the meeting may forward their request by facsimile to Ms. Katherine Benham at (202) 205-7808. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments must be submitted to Ms. Benham at the above address prior to or after the meeting. Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP website to view documents from this meeting.

Dated: April 12, 2002.
A.J. Yates,
Administrator, Agricultural Marketing Service.

[FR Doc. 02-9576 Filed 4-18-02; 8:45 am]

BILLING CODE 3410-02-P